SECURITIES AND EXCHANGE COMMISSION

[Release No. 34-67296; File No. SR-C2-2012-019]

Self-Regulatory Organizations; C2 Options Exchange, Incorporated; Notice of Filing and Immediate Effectiveness of a Proposed Rule Change To Amend Rule 8.2 Regarding Market-Maker Registration Cost

June 28, 2012.

Correction

In notice document 2012-16375, appearing on pages 39757-39758, in the issue of Thursday, July 5, 2012, make the following correction:

1. On page 39758, in the third column, on the thirty-fourth line, “June 26, 2012” should read “July 26, 2012”.

[FR Doc. C1-2012-16375 Filed 7-12-12; 8:45 am]

BILLING CODE 1505-01-D